DEPARTMENT OF HEALTH AND HUMAN SERVICES

Centers for Disease Control and Prevention

Disease, Disability, and Injury Prevention and Control Special Emphasis Panel (SEP): Varicella and Viral Vaccine Preventable Disease Surveillance & Epidemiologic Studies, Program Announcement Number 04116 and Enhanced Surveillance for New Vaccine Preventable Diseases, Program Announcement Number 04117

In accordance with section 10(a)(2) of the Federal Advisory Committee Act (Pub. L. 92-463), the Centers for Disease Control and Prevention (CDC) announces the following meeting:

Name: Disease, Disability, and Injury Prevention and Control Special Emphasis Panel (SEP): Varicella and Viral Vaccine Preventable Disease Surveillance & Epidemiologic Studies, Program Announcement Number 04116 and Enhanced Surveillance for New Vaccine Preventable Diseases, Program Announcement Number 04117.

Times and Dates: 6 p.m.-7 p.m., June 17, 2004 (Open). 7 p.m.-9 p.m., June 17, 2004 (Closed). 8 a.m.-5 p.m., June 18, 2004 (Closed).

Place: Renaissance Hotels and Resorts, One Hartsfield Centre Parkway, Atlanta, GA 30354, Telephone (404) 209-9999.

Status: Portions of the meeting will be closed to the public in accordance with provisions set forth in section 552b(c)(4) and (6), Title 5 U.S.C., and the Determination of the Director, Management Analysis and Services Office, CDC, pursuant to Public Law 92-463.

Matters To Be Discussed: The meeting will include the review, discussion, and evaluation of applications received in response to Program Announcement Numbers 04116 and 04117.

Contact Person for More Information: Beth Gardner, National Immunization Program, CDC, 1600 Clifton Road, NE, MS-E05, Atlanta, GA 30333, Telephone (404) 639-6101.

The Director, Management Analysis and Services Office has been delegated the authority to sign Federal Register notices pertaining to announcements of meetings and other committee management activities, for both CDC and the Agency for Toxic Substances and Disease Registry.

Dated: May 3, 2004.
Alvin Hall,
Director, Management Analysis and Services Office, Centers for Disease Control and Prevention.

[FR Doc. 04-10421 Filed 5-6-04; 8:45 am]

BILLING CODE 4163-18-P